DEPARTMENT OF HEALTH AND HUMAN SERVICES

National Institutes of Health

National Library of Medicine Notice of Meeting Amended Notice of Meeting

Notice is hereby given of a change in the meeting of the National Library of Medicine Special Emphasis Panel, June 16, 2023, 12:00 p.m. to 6:00 p.m. This notice was published in the Federal Register on March 23, 2023, 88 FR 56, Page 17587.

This notice is being amended to change the date to July 21, 2023, 11:00 a.m. to 5:00 p.m. The meeting is closed to the public.

Dated: May 17, 2023.
Miguelina Perez,
Program Analyst, Office of Federal Advisory Committee Policy.

[FR Doc. 2023-10892 Filed 5-22-23; 8:45 am]

BILLING CODE 4140-01-P